ENVIRONMENTAL PROTECTION AGENCY

[ER-FRL-9013-7]

Environmental Impact Statements; Notice of Availability

Responsible Agency: Office of Federal Activities, General Information (202) 564-7146 or http://www.epa.gov/compliance/nepa/

Weekly Receipt of Environmental Impact Statements

Filed 02/18/2014 Through 02/21/2014 Pursuant to 40 CFR 1506.9.

NOTICE: Section 309(a) of the Clean Air Act requires that EPA make public its comments on EISs issued by other Federal agencies. EPA's comment letters on EISs are available at: http://www.epa.gov/compliance/nepa/eisdata.html

EIS No. 20140046, Draft EIS, USFS, CO, Eldora Mountain Resort Ski Area Projects, Comment Period Ends: 04/14/2014, Contact: Paul Alford 303-541-2506

EIS No. 20140047, Final Supplement, USAF, FL, F-35 Beddown at Eglin Air Force Base, Review Period Ends: 03/31/2014, Contact: Michael Spaits 850-882-2836

EIS No. 20140048, Draft EIS, USFS, NM, Southwest Jemez Mountains Landscape Restoration Project, Comment Period Ends: 04/15/2014, Contact: Chris Napp 505-438-5448

EIS No. 20140049, Final EIS, USFS, ID, Beaver Creek, Review Period Ends: 04/08/2014, Contact: Clinton Scott 208-769-3030

EIS No. 20140050, Draft EIS, NRC, OH, GENERIC—License Renewal of Nuclear Plants Regarding Davis-Besse Nuclear Station, Comment Period Ends: 04/14/2014, Contact: Elaine Keegan 301-415-8517

EIS No. 20140051, Draft EIS, DOI, UT, Provo River Delta Restoration Project, Comment Period Ends: 05/07/2014, Contact: Richard Mingo 801-524-3168

EIS No. 20140052, Final EIS, BLM, NM, Ochoa Mine Project, Review Period Ends: 03/31/2014, Contact: Shiva Achet 575-234-5924

Amended Notices

EIS No. 20140001, Draft EIS, APHIS, 00, Determinations of Nonregulated Status for 2, 4-D-Resistant Corn and Soybean Varieties, Comment Period Ends: 03/11/2014, Contact: Sid Abel 301-734-6352

Revision to FR Notice Published 01/03/2014; Comment Period will remain open through 03/11/2014, per request of the lead agency.

EIS No. 20140038, Draft Supplement, NMFS, 00, Fishery Management Plan for Regulating Offshore Marine Aquaculture in the Gulf of Mexico, Comment Period Ends: 04/04/2014, Contact: Jess Beck-Stimpert 727-551-5755

Revision to FR Notice Published 02/07/2014; Extending Comment Period from 3/31/2014 to 4/04/2014

EIS No. 20140043, Draft EIS, USFS, UT, Energy Gateway South Transmission Project, Comment Period Ends: 05/22/2014, Contact: Kenton Call 435-865-3730

Revision to FR Notice Published 02/14/2014; Correcting Lead Agency from AFS to USFS.

Dated: February 25, 2014.
Cliff Rader,
Director, NEPA Compliance Division, Office of Federal Activities.

[FR Doc. 2014-04420 Filed 2-27-14; 8:45 am]

BILLING CODE 6560-50-P